DEPARTMENT OF TRANSPORTATION

Federal Aviation Administration

Agency Information Collection Activities Under OMB Review

AGENCY: Federal Aviation Administration (FAA), DOT.

ACTION: Notice.

SUMMARY: In compliance with the Paperwork Reduction Act of 1995 (44 U.S.C. 3501 et seq.), this notice announces that the Information Collection Requests (ICR) abstracted below have been forwarded to the Office of Management and Budget (OMB) for extension of the currently approved collections. The ICR describes the nature of the information collection and the expected burden. The Federal Register Notice with a 60-day comment period soliciting comments on the following collections of information was published on February 17, 2005, pages 8132-8133.

DATES: Comments must be submitted on or before June 27, 2005. A comment to OMB is most effective if OMB receives it within 30 days of publication.

FOR FURTHER INFORMATION CONTACT: Judy Street on (202) 267-9895.

SUPPLEMENTARY INFORMATION:

Federal Aviation Administration (FAA)

1. Title: Malfunction or Defect Report.

Type of Request: Extension of a currently approved collection.

OMB Control Number: 2120-0003.

Form(s): FAA Form 8010-4.

Affected Public: A total of 56,045 air carriers and commercial operators.

Abstract: This information allows the FAA to evaluate its certification standards, maintenance programs, and regulatory requirements. It is also the basis for issuance of Airworthiness Directives designed to prevent unsafe conditions and accidents.

Estimated Annual Burden Hours: An estimated 8,407 hours annually.

2. Title: Aviation Insurance.

Type of Request: Extension of a currently approved collection.

OMB Control Number: 2120-0514.

Forms: NA.

Affected Public: A total of 76 air carriers.

Abstract: This information collected is required for the issuance and administration of aviation insurance policies.

Estimated Annual Burden Hours: An estimated 4,394 hours annually.

3. Title: License Requirements for the Operation of a Launch Site.

Type of Request: Extension of a currently approved collection.

OMB Control Number: 2120-0644.

forms: NA.

Affected Public: 2 commercial space launch site operators.

Abstract: The information to be collected includes data required for performing launch site location analysis. The launch site license is valid for a period of 5 years. Respondents are licensees authorized to operate sites.

Estimated Annual Burden Hours: An estimated 3,102 hours annually.

4. Title: Advisory Circular (AC): Reporting of Laser Illumination of Aircraft.

Type of Request: Extension of a currently approved collection.

OMB Control Number: 2120-0698.

Forms: NA.

Affected Public: 400 pilots.

Abstract: This collection covers the reporting of unauthorized illumination of aircraft by lasers.

Estimated Annual burden Hours: An estimated 100 hours annually.

ADDRESSES: Send comment to the Office of Information and Regulatory Affairs, Office of Management and budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Dated: Issued in Washington, DC, on May 20, 2005.
Judith D. Street,
FAA Information Collection Clearance Officer, Information Systems and Technology Services Staff, ABA-20.

[FR Doc. 05-10603 Filed 5-26-05; 8:45 am]

BILLING CODE 4910-13-M